DEPARTMENT OF COMMERCE

National Oceanic and Atmospheric Administration

RIN 0648-XL41

Marine Mammals; File No. 10080

AGENCY: National Marine Fisheries Service (NMFS), National Oceanic and Atmospheric Administration (NOAA), Commerce.

ACTION: Notice; receipt of application for permit amendment.

SUMMARY: Notice is hereby given that Dr. Kathryn A. Ono, Department of Biological Sciences, University of New England, Biddeford, ME, has applied for an amendment to Scientific Research Permit No. 10080-02.

DATES: Written, telefaxed, or e-mail comments must be received on or before November 26, 2008.

ADDRESSES: The application and related documents are available for review by selecting “Records Open for Public Comment” from the Features box on the Applications and Permits for Protected Species (APPS) home page, https://apps.nmfs.noaa.gov/index.cfm, and then selecting File No. 10080 from the list of available applications.

These documents are also available upon written request or by appointment in the following office(s):

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9300; fax (978)281-9394.

Written comments or requests for a public hearing on this application should be submitted to the Chief, Permits, Conservation and Education Division, F/PR1, Office of Protected Resources, NMFS, 1315 East-West Highway, Room 13705, Silver Spring, MD 20910. Those individuals requesting a hearing should set forth the specific reasons why a hearing on this particular application would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 10080.

FOR FURTHER INFORMATION CONTACT: Tammy Adams or Kate Swails, (301)713-2289.

SUPPLEMENTARY INFORMATION: The subject amendment to Permit No. 10080-02 is requested under the authority of the Marine Mammal Protection Act of 1972, as amended (16 U.S.C. 1361 et seq.), and the regulations governing the taking and importing of marine mammals (50 CFR part 216).

Permit No. 10080, issued on December 18, 2007, (72 FR 72996), and subsequently amended on January 31, 2008, (Permit No. 10080-01 was a minor amendment, which required no Federal Register notice) and on April 8, 2008 (73 FR 22931) authorizes the permit holder to examine expanding populations of the Western North Atlantic stocks of harbor seals (Phoca vitulina concolor) and gray seals (Halichoerus grypus) in the Gulf of Maine. In addition to capture and sampling activities, the permit authorizes harassment of gray seals incidental to boat approaches to seals on haul outs. The current version of the permit, Permit No. 10080-02, is valid through December 31, 2012.

The permit holder is requesting the permit be amended to include authorization to: (1) remotely mark the pelage of adult gray seals of both sexes (200 per year) using the various dyes and paints already permitted for use on pups; (2) use an additional type of marking agent, an alcohol based- dye (Rhodamine B 500%), on pups and adults; (3) disturb an additional 400 non-target gray seals per year during the additional marking activities; and (4) disturb an additional 300 gray seals annually during field camp operations associated with conduct of the research. The permit holder also requests permission for the incidental research-related mortality of up to four gray seal pups annually.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: October 22, 2008.
P. Michael Payne,
Chief, Permits, Conservation and Education Division, Office of Protected Resources, National Marine Fisheries Service.

[FR Doc. E8-25560 Filed 10-24-08; 8:45 am]

BILLING CODE 3510-22-S